DEPARTMENT OF LABOR

Employment and Training Administration

[TA-W-62,515]

Drive Sol Global Steering, Inc. Steering Division, Formerly Known as Timken US Corporation, Currently Known as Global Steering Systems, LLC Including On-Site Leased Workers From Kelly Services, Inc., Watertown, CT; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on February 5, 2008, applicable to workers of Drive Sol Global Steering, Inc., Steering Division, Watertown, Connecticut. The notice was published in the Federal Register on February 22, 2008 (73 FR 9835). The certification was amended on March 10, 2008 and August 20, 2008 to reflect the former employers name and to include on-site leased workers from Kelly Services. The notices were published in the Federal Register on March 17, 2008 (73 FR 14271) and August 29, 2008 (73 FR 51000-51001), respectively.

At the request of the State agency, the Department reviewed the certification for workers of the subject firm. The workers are engaged in the production of steering mechanical shafts.

New information shows that on March 31, 2009, Wanxiang Corp. purchased Drive Sol Global Steering Systems, LLC. and is currently known as Global Steering Systems, LLC.

Accordingly, the Department is amending this certification to include workers of the subject firm whose UI wages are reported under the successor firm, Global Steering Systems, LLC.

The amended notice applicable to TA-W-62,515 is hereby issued as follows:

All workers of Drive Sol Global Steering, Inc., Steering Division formerly known as Timken US Corporation, currently known as Global Steering Systems, LLC, including on-site leased workers from Kelly Services, Watertown, Connecticut, who became totally or partially separated from employment on or after November 29, 2006, through February 5, 2010, are eligible to apply for adjustment assistance under Section 223 of the Trade Act of 1974, and are also eligible to apply for alternative trade adjustment assistance under Section 246 of the Trade Act of 1974.

Signed at Washington, DC this 13th day of May 2009.
Linda G. Poole,
Certifying Officer, Division of Trade Adjustment Assistance.

[FR Doc. E9-14065 Filed 6-15-09; 8:45 am]

BILLING CODE 4510-FN-P